INTERNATIONAL TRADE COMMISSION

[Investigation Nos. 701-TA-632-635 and 731-TA-1466 and 731-TA-1468 (Final)]

Fluid End Blocks From China, Germany, India, and Italy; Determinations

On the basis of the record ¹ developed in the subject investigations, the United States International Trade Commission (“Commission”) determines, pursuant to the Tariff Act of 1930 (“the Act”), that an industry in the United States is materially injured by reason of imports of fluid end blocks from China, Germany, India, and Italy that have been found by the U.S. Department of Commerce (“Commerce”) to be subsidized by the respective governments of those countries and imports of fluid end blocks from Germany and Italy that have been found by Commerce to be sold in the United States at less than fair value (“LTFV”). Imports of fluid end blocks are provided for in subheadings 7218.91.00, 7218.99.00, 7224.90.00, 7326.19.00, 7326.90.86, and 8413.91.90 of the Harmonized Tariff Schedule of the United States.

¹ The record is defined in § 207.2(f) of the Commission's Rules of Practice and Procedure (19 CFR 207.2(f)).

Background

The Commission instituted these investigations effective December 19, 2019, following receipt of petitions filed with the Commission and Commerce by Ellwood City Forge Company, Ellwood Quality Steels Company, and Ellwood National Steel Company, Ellwood City, Pennsylvania; A. Finkl & Sons, Chicago, Illinois; and FEB Fair Trade Coalition, Cleveland, Ohio. The final phase of the investigations was scheduled by the Commission following notification of preliminary determinations by Commerce that imports of fluid end blocks from China, Germany, India, and Italy were subsidized within the meaning of section 703(b) of the Act (19 U.S.C. 1671b(b)) and imports from Germany and Italy sold at LTFV within the meaning of 733(b) of the Act (19 U.S.C. 1673b(b)).² Notice of the scheduling of the final phase of the Commission's investigations and of a public hearing to be held in connection therewith was by publishing the notice in the Federal Register on August 24, 2020 (85 FR 52151). In light of the restrictions on access to the Commission building due to the COVID-19 pandemic, the Commission conducted its hearing through written testimony and video conference on December 1, 2020. All persons who requested the opportunity were permitted to participate.

² Commerce issued negative preliminary and final determinations of sales at LTFV with regard to fluid end blocks from India (85 FR 44517, July 23, 2020, and 85 FR 80003, December 11, 2020).

The Commission made these determinations pursuant to §§ 705(b) and 735(b) of the Act (19 U.S.C. 1671d(b) and 19 U.S.C. 1673d(b)). It completed and filed its determinations in these investigations on January 25, 2021. The views of the Commission are contained in USITC Publication 5152 (January 2021), entitled Fluid End Blocks from China, Germany, India, and Italy: Investigation Nos. 701-TA-632-635 and 731-TA-1466 and 731-TA-1468 (Final).

By order of the Commission.
Issued: January 25, 2021.
Lisa Barton,
Secretary to the Commission.

[FR Doc. 2021-01949 Filed 1-28-21; 8:45 am]

BILLING CODE 7020-02-P